DEPARTMENT OF ENERGY

Federal Energy Regulatory Commission

[Docket No. RP13-526-000]

Gulf South Pipeline Company, LP; Notice of Technical Conference

Take notice that the Commission Staff will convene a technical conference in the above-referenced proceeding on Tuesday, April 9, 2013, at 10:00 a.m. (Eastern Standard Time), in a room to be designated at the offices of the Federal Energy Regulatory Commission, 888 First Street NE., Washington, DC 20426.

At the technical conference, the Commission Staff and the parties to the proceeding can discuss all of the issues raised by Gulf South's filing. In particular, as discussed in the Order Establishing Technical Conference ¹ in this docket, parties should be prepared to discuss concerns regarding degradation of service, implementation of additional service requirements, routing of nominations, implementation timing, impact on secondary market, expansion-legacy interconnects, and requests for additional information.

¹ Gulf South Pipeline Company, LP, 142 FERC ¶ 61,167 (2013).

FERC conferences are accessible under section 508 of the Rehabilitation Act of 1973. For accessibility accommodations please send an email to accessibility@ferc.gov or call toll free (866) 208-3372 (voice) or (202) 502-8659 (TTY), or send a fax to (202) 208-2106 with the required accommodations.

All interested persons are permitted to attend. For further information please contact Vince Mareino at (202) 502-6167 or email Vince.Mareino@ferc.gov.

Dated: March 19, 2013.
Kimberly D. Bose,
Secretary.

[FR Doc. 2013-06815 Filed 3-25-13; 8:45 am]

BILLING CODE 6717-01-P